DEPARTMENT OF THE INTERIOR

National Park Service

Notice of Inventory Completion: Colorado Historical Society, Denver, CO

AGENCY: National Park Service, Interior.

ACTION: Notice.

Notice is here given in accordance with the Native American Graves Protection and Repatriation Act (NAGPRA), 25 U.S.C. 3003, of the completion of an inventory of human remains and associated funerary objects in the control of the Colorado Historical Society, Denver, CO. The human remains and associated funerary objects were removed from Alamosa, Costilla, La Plata, and Saguache Counties, CO.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

In 2006 and 2009, a detailed assessment of the human remains and associated funerary objects was made by Colorado Historical Society professional staff in consultation with representatives of the Arapahoe Tribe of the Wind River Reservation, Wyoming; Cheyenne and Arapaho Tribes, Oklahoma (formerly Cheyenne and Arapaho Tribes of Oklahoma); Comanche Nation, Oklahoma; Crow Tribe of Montana; Hopi Tribe of Arizona; Jicarilla Apache Nation, New Mexico; Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Ohkay Owingeh, New Mexico (formerly the Pueblo of San Juan); Paiute Indian Tribe of Utah (Cedar City Band of Paiute, Kanosh Band of Paiutes, Koosharem Band of Paiutes, Indian Peaks Band of Paiutes, and Shivwits Band of Paiutes); Pawnee Nation of Oklahoma; Pueblo of Acoma, New Mexico; Pueblo of Cochiti, New Mexico; Pueblo of Isleta, New Mexico; Pueblo of Jemez, New Mexico; Pueblo of Nambe, New Mexico; Pueblo of Picuris, New Mexico; Pueblo of Pojoaque, New Mexico; Pueblo of San Ildefonso, New Mexico; Pueblo of Sandia, New Mexico; Pueblo of Santa Ana, New Mexico; Pueblo of Santa Clara, New Mexico; Pueblo of Tesuque, New Mexico; Pueblo of Zia, New Mexico; Rosebud Sioux Tribe of the Rosebud Indian Reservation, South Dakota; Shoshone-Bannock Tribes of the Fort Hall Reservation of Idaho; Shoshone Tribe of the Wind River Reservation, Wyoming; Southern Ute Indian Tribe of the Southern Ute Indian Reservation, Colorado; Standing Rock Sioux Tribe of North & South Dakota; Three Affiliated Tribes of the Fort Berthold Reservation, North Dakota; Ute Indian Tribe of the Uintah & Ouray Reservation, Utah; Ute Mountain Tribe of the Ute Mountain Reservation, Colorado, New Mexico & Utah; and Zuni Tribe of the Zuni Reservation, New Mexico.

In April 1997, human remains representing a minimum of one individual were removed from private land in Costilla County, CO (Office of Archaeology and Historic Preservation (OAHP) Case Number 132; 5CT.271). The human remains were inadvertently discovered on the surface of the land by a private citizen looking for antler sheds on the Blanca Trinchera Ranch. The human remains were transferred to Colorado College by Costilla County authorities. In August 2002, the human remains were transferred to the Colorado Historical Society. No known individual was identified. No associated funerary objects are present.

The human remains represent a Native American female estimated to be 35-50 years old. The antiquity of the human remains is unknown.

In June or July 2000, human remains representing a minimum of two individuals were removed from municipal land in Saguache County, CO (OAHP Case Number 182; 5SH.1858). A teenage boy observed the human remains eroding from a road cut, and delivered them to the Saguache County Sheriff's Office. In July 2002, the human remains were transferred to the Colorado Historical Society. No known individuals were identified. No associated funerary objects are present.

The human remains represent one Native American adult (estimated to be 50 years old) and one Native American subadult (estimated to be between the ages of 7 and 11). The antiquity of the human remains is unknown.

In April 2005, human remains representing a minimum of one individual were removed from private land in Saguache County, CO (OAHP Case Number 226; 5SH.2410). The human remains were inadvertently discovered by a contractor excavating a trench for an electrical line in the Baca Grande subdivision. A burial investigation was conducted by OAHP staff, who recovered more skeletal elements. In April 2005, the human remains were transferred to the Colorado Historical Society. No known individual was identified. The four associated funerary objects are two manos, one metate, and one bone awl tip.

The human remains represent an elderly Native American male. The antiquity of the human remains is unknown.

In April 2005, human remains representing a minimum of one individual were removed from municipal land in La Plata County, CO (OAHP Case Number 227; 5LP.7801). Employees of the Durango and Silverton Narrow Gauge Railroad inadvertently discovered the human remains eroding from an embankment along railroad tracks. OAHP staff assessed the site, and Fort Lewis College staff conducted additional excavation. In July 2006, the human remains were transferred to the Colorado Historical Society. No known individual was identified. The one associated funerary object is an Olivella shell bead.

The human remains represent a Native American subadult, estimated to be 2-3 years old. Based on the associated funerary object, the estimated antiquity is 500 B.C. to A.D. 900.

In 1987, human remains representing a minimum of two individuals were removed from county land in Alamosa County, CO (OAHP Case Number 250; 5AL.396). The human remains were inadvertently exposed during road maintenance activities on an Alamosa County road. The Rio Grande National Forest Archaeologist conducted a burial investigation and placed the human remains in the custody of the Anasazi Heritage Center. In 2007, the Bureau of Land Management transferred the human remains to the Colorado Historical Society, since they had not originated from Federal land. No known individuals were identified. The 30 associated funerary objects are 29 juniper beads and 1 partial canid skeleton.

The human remains represent a Native American female, estimated to be 50 years old and one Native American individual, sex and age unknown. The estimated antiquity is unknown.

Insufficient geographical, kinship, biological, archeological, linguistic, folkore, oral tradition, historical evidence or other information or expert opinion exists to reasonably establish cultural affiliation of the above individuals with any present-day Indian tribe, although physical anthropological evidence supports Native American identity.

Officials of the Colorado Historical Society have determined that, pursuant to 25 U.S.C. 3001 (9-10), the human remains described above represent the physical remains of seven individuals of Native American ancestry. Officials of the Colorado Historical Society also have determined that, pursuant to 25 U.S.C. 3001 (3)(A), the 35 objects described above are reasonably believed to have been placed with or near individual human remains at the time of death or later as part of the death rite or ceremony. Lastly, officials of the Colorado Historical Society have determined that, pursuant to 25 U.S.C. 3001 (2), a relationship of shared group identity cannot be reasonably traced between the Native American human remains and associated funerary objects and any present-day Indian tribe.

Colorado Historical Society has determined that these human remains are “culturally unidentifiable” under NAGPRA, 43 CFR 10.9 (e)(6). Federal regulations currently preclude disposition of culturally unidentifiable human remains absent an overriding legal requirement or a recommendation from the Secretary of the Interior, 43 CFR 10.9 (e)(6). In 2006, the Colorado Historical Society, in partnership with the Colorado Commission of Indian Affairs, Southern Ute Indian Tribe of the Southern Ute Reservation, Colorado, and Ute Mountain Tribe of the Ute Mountain Reservation, Colorado, New Mexico & Utah conducted tribal consultations among the tribes with ancestral ties to the State of Colorado to develop the process for disposition of culturally unidentifiable Native American human remains and associated funerary objects originating from inadvertent discoveries on Colorado State and private lands. As a result of the consultation, a process was developed, Process for Consultation, Transfer, and Reburial of Culturally Unidentifiable Native American Human Remains and Associated Funerary Objects Originating From Inadvertent Discoveries on Colorado State and Private Lands, (2008), (unpublished, on file with the Colorado Office of Archaeology and Historic Preservation). The Native American human remains and associated funerary objects described above originated from inadvertent discoveries on Colorado State and private lands in Alamosa, Costilla, La Plata, and Saguache Counties, CO, and are located in the Southwest Consultation Region, established by the Process.

The Native American Graves Protection and Repatriation Review Committee (Review Committee) is responsible for recommending specific actions for disposition of culturally unidentifiable human remains. On November 3-4, 2006, the Process was presented to the Review Committee for consideration. A January 8, 2007, letter on behalf of the Review Committee from the Designated Federal Officer transmitted the provisional authorization to proceed with the Process upon receipt of formal responses from the Jicarilla Apache Nation, New Mexico and Kiowa Indian Tribe of Oklahoma, subject to forthcoming conditions imposed by the Secretary of the Interior. On May 15-16, 2008, the responses from the Jicarilla Apache Nation, New Mexico and Kiowa Indian Tribe of Oklahoma were submitted to the Review Committee. On September 23, 2008, the Assistant Secretary for Fish and Wildlife and Parks, as the designee for the Secretary of the Interior, transmitted the authorization for the disposition of culturally unidentifiable human remains according to the Process and NAGPRA, pending publication of a Notice of Inventory Completion in the Federal Register. This notice fulfills that requirement.

Representatives of any other Indian tribe that believes itself to be culturally affiliated with the human remains and/or associated funerary objects should contact Sheila Goff, NAGPRA Liaison, Colorado Historical Society, 1300 Broadway, Denver, CO 80203, telephone (303) 866-4531, before June 8, 2009. Disposition of the human remains and associated funerary objects to the Southern Ute Indian Tribe of the Southern Ute Reservation, Colorado, and Ute Mountain Tribe of the Ute Mountain Reservation, Colorado, New Mexico & Utah may proceed after that date if no additional claimants come forward.

The Colorado Historical Society is responsible for notifying the Apache Tribe of Oklahoma; Arapahoe Tribe of the Wind River Reservation of Wyoming; Cheyenne and Arapaho Tribes, Oklahoma; Cheyenne River Sioux Tribe of the Cheyenne River Reservation, South Dakota; Comanche Nation, Oklahoma; Crow Creek Sioux Tribe of the Crow Creek Reservation, South Dakota; Crow Tribe of Montana; Fort Sill Apache Tribe of Oklahoma; Hopi Tribe of Arizona; Jicarilla Apache Nation, New Mexico; Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Ohkay Owingeh, New Mexico; Paiute Indian Tribe of Utah; Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Rosebud Sioux Tribe of the Rosebud Indian Reservation, South Dakota; San Juan Southern Paiute Tribe of Arizona; Shoshone-Bannock Tribes of the Fort Hall Reservation of Idaho; Shoshone Tribe of the Wind River Reservation, Wyoming; Southern Ute Indian Tribe of the Southern Ute Indian Reservation, Colorado; Standing Rock Sioux Tribe of North & South Dakota; Three Affiliated Tribes of the Fort Berthold Reservation, North Dakota; Ute Indian Tribe of the Uintah & Ouray Reservation, Utah; Ute Mountain Ute Tribe of the Ute Mountain Reservation, Colorado, New Mexico & Utah; Wichita and Affiliated Tribes (Wichita, Keechi, Waco & Tawakoni), Oklahoma; Ysleta del Sur Pueblo of Texas; and Zuni Tribe of the Zuni Reservation, New Mexico that this notice has been published.

Dated: April 13, 2009.
Sherry Hutt,
Manager, National NAGPRA Program.

[FR Doc. E9-10558 Filed 5-6-09; 8:45 am]

BILLING CODE 4312-50-S